DEPARTMENT OF TRANSPORTATION

National Highway Traffic Safety Administration

[Docket No. DOT-NHTSA-2008-0094]

Notice of Receipt of Petition for Decision That Nonconforming 1988-1994 ALPINA Burkard Bovensiepen GmbH B12 5.0 Model Passenger Cars Are Eligible for Importation

AGENCY: National Highway Traffic Safety Administration, DOT.

ACTION: Notice of receipt of petition for decision that nonconforming 1988-1994 ALPINA Burkard Bovensiepen GmbH (ALPINA) B12 5.0 model passenger cars are eligible for importation.

SUMMARY: This document announces receipt by the National Highway Traffic Safety Administration (NHTSA) of a petition for a decision that 1988-1994 ALPINA B12 5.0 model passenger cars that were not originally manufactured to comply with all applicable Federal motor vehicle safety standards (FMVSS) are eligible for importation into the United States because they have safety features that comply with, or are capable of being altered to comply with, all such standards.

DATE: The closing date for comments on the petition is June 13, 2008.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue, SE., West Building, Ground Floor, Room W12-140, Washington, DC 20590-0001.

• Hand Delivery or Courier: West Building, Ground Floor, Room W12-140, 1200 New Jersey Avenue, SE., between 9 a.m. and 5 p.m. ET, Monday through Friday, except Federal holidays.

• Fax: 202-493-2251.

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-19478).

How to Read Comments Submitted to the Docket: You may read the comments received by Docket Management at the address and times given above. You may also view the documents from the Internet at http://www.regulations.gov.

Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: Coleman Sachs, Office of Vehicle Safety Compliance, NHTSA (202-366-3151).

SUPPLEMENTARY INFORMATION:

Background

Under 49 U.S.C. 30141(a)(1)(B), a motor vehicle that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

101 Innovations, LLC, of Ferndale, Washington (101 Innovations)(Registered Importer 07-350) has petitioned NHTSA to decide whether nonconforming 1988-1994 ALPINA B12 5.0 model passenger cars are eligible for importation into the United States. 101 Innovations believes that these vehicles are capable of being modified to meet all applicable FMVSS.

In its petition, 101 Innovations stated its belief that nonconforming 1988-1994 ALPINA B12 5.0 model passenger cars are substantially similar to both the U.S. version 1988-1994 BMW 7-series (e32) passenger cars and the nonconforming 1988-1994 BMW 7-series (e32) passenger cars that are eligible for importation by Registered Importers under vehicle eligibility number VSP-299 and VSA-28. 101 Innovations explained that the subject 1988-1994 ALPINA B12 5.0 model passenger cars were originally manufactured by BMW as 7-series (e32) passenger cars and were subsequently altered by ALPINA Burkard Bovensiepen GmbH. 101 Innovations additionally explained that ALPINA Burkard Bovensiepen GmbH assigned new VINs to the altered vehicles prior to the vehicles being sold as ALPINA brand vehicles in Europe and other regions outside of the United States. While there may be similarities between the 1988-1994 ALPINA B12 5.0 model passenger cars and the 1988-1994 BMW 7-series (e32) passenger cars that BMW has manufactured for importation into and sale in the United States, NHTSA has decided that due to the vehicle and VIN alterations, the 1988-1994 ALPINA B12 5.0 model passenger cars cannot be regarded as substantially similar to 1988-1994 BMW 7-series (e32) passenger cars for the purpose of establishing import eligibility under section 30141(a)(1)(A). Therefore, we will construe 101 Innovation's petition as a petition pursuant to 49 U.S.C. 30141(a)(1)(B), seeking to establish import eligibility for the 1988-1994 ALPINA B12 5.0 model passenger cars on the basis that they have safety features that comply with, or are capable of being modified to comply with, the FMVSS based on destructive test data or such other evidence that NHTSA decides to be adequate.

101 Innovations submitted information with its petition intended to demonstrate that non-U.S. certified 1988-1994 ALPINA B12 5.0 model passenger cars conform to many FMVSS and are capable of being altered to comply with all other standards to which they were not originally manufactured to conform.

Specifically, the petitioner claims, based on a comparison with the U.S. certified 1988-1994 BMW 7-series (e32) passenger cars, that non-U.S. certified 1988-1994 ALPINA B12 5.0 model passenger cars, as originally manufactured, conform to: Standard Nos. 102 Transmission Shift Lever Sequence, Starter Interlock, and Transmission Braking Effect, 103 Windshield Defrosting and Defogging Systems, 104 Windshield Wiping and Washing Systems, 105 Hydraulic Brake Systems, 106 Brake Hoses, 107 Reflecting Surfaces, 109 New Pneumatic Tires, 113 Hood Latch System, 116 Motor Vehicle Brake Fluids, 124 Accelerator Control Systems, 201 Occupant Protection in Interior Impact, 202 Head Restraints, 204 Steering Control Rearward Displacement, 205 Glazing Materials, 206 Door Locks and Door Retention Components, 207 Seating Systems, 210 Seat Belt Assembly Anchorages, 211 Wheel Nuts, Wheel Discs and Hub Caps, 212 Windshield Mounting, 214 Side Impact Protection, 216 Roof Crush Resistance, 219 Windshield Zone Intrusion, 301 Fuel System Integrity, and 302 Flammability of Interior Materials.

In addition, the petitioner claims that the vehicles comply with the Bumper Standard found in 49 CFR part 581.

The petitioner also contends that the vehicles are capable of being altered to meet the following standards, in the manner indicated:

Standard No. 101 Controls and Displays: Installation of U.S.-model instrument cluster and U.S.-version software.

Standard No. 108 Lamps, Reflective Devices and Associated Equipment: Installation of U.S.-model: (a) Headlamps; (b) front and rear side marker lamps; and (c) rear high mounted stop lamp and associated wiring.

Standard No. 110 Tire Selection and Rims: Installation on the vehicle of a tire information placard.

Standard No. 111 Rearview Mirrors: Installation of a U.S.-model passenger side rearview mirror, or inscription of the required warning statement on the face of that mirror.

Standard No. 114 Theft Protection: Installation of U.S.-version software and a U.S.-model ignition switch to meet the requirements of this standard.

Standard No. 115 Vehicle Identification: Installation of a vehicle identification plate near the left windshield post to meet the requirements of this standard.

Standard No. 118 Power-Operated Window, Partition, and Roof Panel Systems: Inspection of all vehicles and modification or deactivation of any remote activation features that cause the system not to conform to the standard.

Standard No. 208 Occupant Crash Protection: (a) Installation of U.S.-model knee bolsters; and (b) inspection of all vehicles and replacement of any non U.S.-model air bag system components, including all warning systems, warning labels and telltales, with U.S.-model components on vehicles not already so equipped.

Standard No. 209 Seat Belt Assemblies: Inspection of all vehicles and replacement of any non U.S.-model seat belt components on vehicles not already so equipped.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: May 8, 2008.
Claude H. Harris,
Director, Office of Vehicle Safety Compliance.

[FR Doc. E8-10729 Filed 5-13-08; 8:45 am]

BILLING CODE 4910-59-P